DEPARTMENT OF COMMERCE

National Oceanic and Atmospheric Administration

RIN 0648-XA194

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold meetings of its 106th Scientific and Statistical Committee (SSC), the American Samoa Archipelago Fishery Ecosystem Plan Regional Ecosystem Advisory Committee (REAC), Advisory Panel (AP), and Plan Team (PT). The Council will also hold its 150th meeting to consider advisory group recommendations and take actions on fishery management issues in the Western Pacific Region.

DATES: The meetings will be held from February 22 and March 10, 2011. All meetings will be held in Pago Pago, American Samoa, except for the SSC meeting which will be held in Honolulu, HI. See SUPPLEMENTARY INFORMATION for specific dates and times and agendas of the several meetings.

ADDRESSES: See SUPPLEMENTARY INFORMATION for specific locations of the meetings.

Council address: Western Pacific Regional Fishery Management Council Office, 1164 Bishop Street, Suite 1400, Honolulu, HI; telephone: (808) 522-8220.

FOR FURTHER INFORMATION CONTACT: Kitty M. Simonds, Executive Director; telephone: (808) 522-8220.

SUPPLEMENTARY INFORMATION: The SSC will meet on February 22-24, 2011, between 8:30 a.m. and 5 p.m.; The American Samoa REAC will meet on March 4, 2011, between 9 a.m. and 4 p.m.; the AP will meet on March 5, 2011, between 8:30 a.m. and 5 p.m.; the PT will meet on March 7, 2011, between 8:30 a.m. and 5 p.m.; the Council's Executive and Budget Standing Committee will meet on March 7, 2011, between 3 p.m. and 5 p.m.; the 150th Council meeting will meet on March 8-10, 2011, between 8:30 a.m. and 5 p.m.

The SSC meeting will be held at the Western Pacific Regional Fishery Management Council Office, 1164 Bishop Street, Suite 1400, Honolulu, HI; telephone: (808) 522-8220. The REAC, and 150th Council meetings will be held at the Governor H. Rex Lee Auditorium (Fale Laumei), Department of Commerce, Government of American Samoa, Pago Pago, American Samoa; telephone: (684) 633-5155. The Council Executive and Budget Standing Committee and AP meetings will be held at Sadie's by the Sea Hotel, Pago Pago, American Samoa; telephone: (684) 633-5981. The Council's PT meeting will be held at the Department of Marine and Wildlife Resources, Government of American Samoa, Pago Pago, American Samoa; telephone: (684) 633-5102.

In addition to the agenda items listed here, the SSC, REAC, AP, PT and Council will hear recommendations from Council advisory groups. Public comment periods will be provided throughout the agendas. The order in which agenda items are addressed may change. The meetings will run as late as necessary to complete scheduled business.

Schedule and Agenda for 106th SSC Meeting

8:30 a.m.-5 p.m., Tuesday, February 22, 2011

1. Introductions

2. Approval of Draft Agenda and Assignment of Rapporteurs

3. Status of the 104th SSC Meeting Recommendations

4. Report from the Pacific Islands Fisheries Science Center Director

5. Program Planning

A. Annual Catch Limit (ACL) Specification Process

B. Workshop on ACLs for Coral Reef Fisheries

C. National ACL Science Needs Workshop

D. Catch Shares and Communities Workshop

E. Public Comment

F. SSC Discussion and Recommendations

6. Insular Fisheries

A. Mariana Archipelago

1. Plan Team Meetings

2. Advisory Panel Meetings

3. Regional Ecosystem Advisory Committee meetings

4. Biosampling in the Mariana Archipelago

B. Hawaii Archipelago

1. Bottomfish Stock Assessment

2. Bottomfish Essential Fish Habitat (EFH)/Habitat Areas of Particular Concern (HAPC)

3. Puwalu Recommendations

C. American Samoa Archipelago

D. Public Comment

E. SSC Discussion and Recommendations

8:30 a.m.-5 p.m., Wednesday, February 23, 2011

7. Pelagic Fisheries

A. Proposed Changes to American Samoa Large Pelagic Fishing Vessel (> 50 ft) Area Closure (Action)

B. American Samoa Longline Limited Entry Program (Action)

C. American Samoa and Hawaii Longline Quarterly Reports

D. Impacts to Hawaii Longline Fleet from Western and Central Pacific Ocean Bigeye Tuna Closure

E. International Fisheries Meetings

1. Seventh Regular Meeting of the Western and Central Pacific Fisheries Commission (WCPFC7)

F. Public Comment

G. SSC Discussion and Recommendations

8. Protected Species

A. Updates on False Killer Whale Issues

B. Updates on Endangered Species Act Issues

C. American Samoa Longline Fishery Circle Hook Study

D. Mariana Archipelago Green Turtle Workshop Report

E. Better science needed for ecosystem restoration and health assessment

F. Public Comment

G. SSC Discussion and Recommendations

8:30 a.m.-5 p.m., Thursday, February 24, 2011

9. Other Meetings & Workshops

10. Other Business

A. 107th SSC Meeting

11. Summary of SSC Recommendations to the Council

Schedule and Agenda for American Samoa REAC Meeting

9 a.m.-4 p.m., Friday, March 4, 2011

1. Welcome and Introductions

2. Status of 2010 REAC Recommendations

3. Coastal and Marine Spatial Planning Initiative

A. Regional Ocean Partnership

B. Monument Activities and Status

C. Discussion and Recommendations

4. Ecosystem Monitoring and Community Issues

A. American Samoa Bio-Sampling Program

B. Discussion and Recommendations

5. Community Development

A. Status of Fishery Development

B. Marine Conservation Plan

C. Discussion and Recommendations

6. Upcoming Council Action Items

A. Pelagic Action Items

i. Modifying the large pelagic fishing vessel area closure

ii. Potential modifications to the American Samoa Longline Limited Entry Program

B. Other Action Items

C. Discussion and Recommendations

7. Other Business

8. Public Comments

9. Discussion and Recommendations

Schedule and Agenda for American Samoa AP Meeting

8:30 a.m.-5 p.m., Saturday, March 5, 2011

1. Introductions

2. Status of 2010 Meeting Recommendations

3. Coastal and Marine Spatial Planning

4. Ecosystem Monitoring and Community Issues

A. Report on Coral Reef Funded Projects

B. Federal Programs and Projects

i. American Samoa Bio-Sampling Programs

5. Local Activities and Issues

A. Fishery Development

i. American Samoa Marine Conservation Plan

ii. Other Fishery Development

6. Upcoming Council Actions

A. Pelagic Action Items

i. Modifying the large pelagic fishing vessel area closure

ii. Potential modifications to the American Samoa Longline Limited Entry Program

B. Other Action Items

7. Other Fishery Issues

8. Public Comment

9. Discussion and Recommendations

Schedule and Agenda for American Samoa PT Meeting

8:30 a.m.-5 p.m., Monday, March 7, 2011

1. Welcome and Introductions

2. Status of Fishery Monitoring Programs and Research Projects

A. Department of Marine and Wildlife Resources

i. Coral Reef Fisheries

ii. Bottomfish Fisheries

iii. Crustacean Fisheries

B. National Marine Fisheries Service Pacific Islands Fisheries Science Center (PIFSC)/Western Pacific Fisheries Information Network (WPacFIN)

i. Report on PIFSC Bio-Sampling Program

C. Pacific Islands Regional Office (PIRO) Administrative Activities

D. Coral Reef Funded Projects

E. Other Initiatives

3. Update on Recommendations from 2009 Fishery Data Workshop

4. Mariana Archipelago Fishery Ecosystem Plan draft annual report structure

A. Fishery Modules

B. Research and Monitoring Projects

C. Protected Resources

D. Habitat

E. Administration

5. Proposal for Improving Fishery Data Collection for Stock Assessments

6. Council Meeting Actions

A. Pelagic Action Items

i. Modifying the large pelagic fishing vessel area closure

ii. Potential modifications to the American Samoa Longline Limited Entry Program

B. Fishery Development

7. Other Business

8. Public Comment

9. Discussion and Recommendations

Schedule and Agenda for 150th Council Meeting

Monday, March 7, 2011

Standing Committee Meetings

3 p.m.-5 p.m., Executive and Budget Standing Committee

8:30 a.m.-5 p.m., Tuesday, March 8, 2011

1. Opening Ceremony

2. Introductions

3. Approval of Agenda

4. Approval of the 149th Meeting Minutes

5. Executive Director's Report

6. Agency Reports

A. National Marine Fisheries Service

1. Pacific Islands Regional Office

2. Pacific Islands Fisheries Science Center

B. NOAA Regional Counsel

C. U.S. Fish and Wildlife Service

D. Enforcement

1. U.S. Coast Guard

2. NMFS Office for Law Enforcement

3. NOAA General Counsel for Enforcement and Litigation

E. National Marine Sanctuaries Program

F. Public Comment

G. Council Discussion and Action

7. American Samoa Archipelago

A. Motu Lipoti

B. Fono Report

C. Enforcement Issues

D. Fishery Development Projects

E. American Samoa Marine Conservation Plan

F. Community Activities and Issues

G. Education and Outreach Initiatives

H. American Samoa FEP AP Recommendations

I. American Samoa FEP PT Recommendations

K. American Samoa FEP REAC Recommendations

L. SSC Recommendations

M. Public Comment

Council Discussion and Action Manny Duenas

8. Mariana Archipelago

A. Arongo Flaeey

B. Isla Informe

C. Legislative Report

D. Enforcement Issues

E. Community Activities and Issues

1. Community Monitoring Activities

2. Report on Lunar Calendar Workshop

3. Report on Mariana Aquaculture Workshop

F. Update on Military Activities

G. Education and Outreach Initiatives

H. Marine Conservation Plans

1. CNMI

2. Guam

I. Marianas FEP AP Recommendations

J. Marianas FEP PT Recommendations

K. Marianas FEP REAC Recommendations

1. Guam

2. CNMI

L. SSC Recommendations

M. Public Comment

N. Council Discussion and Action

9. Public Comment on Non-Agenda Items

6 p.m.-9 p.m.—Fishers Forum

8:30 a.m.-5 p.m., Wednesday, March 9, 2011

10. Hawaii Archipelago

A. Moku Pepa

B. Legislative Report

C. Enforcement Issues

D. Main Hawaiian Islands Bottomfish

1. Stock Assessment Review

2. Bottomfish EFH/HAPC

E. Community Activities and Issues

1. Hawaii Puwalu Report

2. Report on scoping meeting for non-commercial, catch shares, ACL and other Council initiatives

F. SSC Recommendations

G. Public Comment

H. Council Discussion and Action

11. Program Planning and Research

A. Action Item

1. Annual Catch Limit (ACL) Specification Process

B. Report of the Coral Reef ACL Workshop

C. NOAA Catch Shares & Communities Workshop

D. Coastal and Marine Spatial Planning/Climate Change

E. Traditional Lunar Calendar Workshop

F. Hawaii, Regional, National & International Education and Outreach

G. Sustainable Fisheries Fund Marine Conservation Plan

H. SSC Recommendations

I. Public Hearing

J. Council Discussion and Action

12. Protected Species

A. Updates on ESA/MMPA issues

B. Report of the American Samoa Longline Circle-hook Study

C. Mariana Archipelago Green Sea Turtle Workshop Report

D. SSC Recommendations

E. Public Comment

F. Council Discussion and Action

8:30 a.m.-5 p.m., Thursday, March 10, 2011

13. Pelagic and International Fisheries

A. Action Items

1. Potential modifications to the American Samoa Longline Limited Entry Program

2. Proposed Changes to the American Samoa Large Pelagic Vessel (>50 ft) Area Closure

B. American Samoa and Hawaii Longline Quarterly Reports

C. Impacts to Hawaii Longline Fleet from WCPO Bigeye Tuna Closure

D. International Fisheries

1. Seventh Meeting of the Western Central Pacific Fisheries Commission

E. SSC Recommendations

F. Public Hearing

G. Council Discussion and Action

14. Administrative Matters

A. Financial Reports

B. Administrative Reports

C. SOPP Review and Changes

D. Council Family Changes

E. Meetings and Workshops

F. Other Business

G. Standing Committee Recommendations

H. Public Comment

I. Council Discussion and Action

15. Other Business

Although other non-emergency issues not contained in this agenda may come before the Council for discussion and formal Council action during its 150th meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 1, 2011.
Tracey L. Thompson,
Acting Director, Office of Sustainable Fisheries, National Marine Fisheries Service.

[FR Doc. 2011-2513 Filed 2-3-11; 8:45 am]

BILLING CODE 3510-22-P